DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Evaluation of the Comprehensive Community Mental Health Services for Children and Their Families Program: Phase V (OMB No. 0930-0280)—Revision

The Substance Abuse and Mental Health Services Administration (SAMHSA) Center for Mental Health Services (CMHS) is responsible for the National Evaluation of the Comprehensive Community Mental Health Services for Children and Their Families Program, which collects data on child mental health outcomes, family life, and service system development and performance. Data will be collected on 30 service systems and roughly 8,810 children and families.

The data collection for this evaluation will be conducted for a 3-year period. The core of service system data will be collected twice (every 18 to 24 months) during the 3-year evaluation period. A sustainability survey will be conducted in selected years. Service delivery and system variables of interest include the following: Maturity of system of care development; adherence to the system of care program model; services received by youth and their families, and the costs of those services; and consumer service experience.

The length of time that individual families will participate in the study ranges from 18 to 36 months depending on when they enter the evaluation. Child and family outcomes of interest will be collected at intake and during subsequent follow-up interviews at six-month intervals. Client service experience information is collected at these follow-up interviews. Measures included in an outcome interview are determined by the type of assessment (intake or follow-up), child's age, and whether the respondent is the caregiver or a youth.

The outcome measures include the following: Child symptomatology and functioning, family functioning, material resources, and caregiver strain. The caregiver interview package includes the Caregiver Information Questionnaire, Child Behavior Checklist, Behavioral and Emotional Rating Scale (BERS), Education Questionnaire, Columbia Impairment Questionnaire, Living Situations Questionnaire, Family Life Questionnaire, and Caregiver Strain Questionnaire at intake, and also includes the Multi-service Sector Contacts Form, Cultural Competence and Service Provision Questionnaire and the Youth Services Survey (a national outcome measurement tool) at follow-up assessments. Caregivers of children under age 6 complete the Vineland Screener to assess development, and do not complete the BERS. The Youth Interview package includes the Youth Information Questionnaire, Revised Children's Manifest Anxiety Scale, Reynolds Depression Scale, BERS (youth version), Delinquency Survey, Substance Use Survey, GAIN-Quick: Substance Dependence Scale, and Youth Services Survey (youth version).

The evaluation also includes three special studies: (1) An evidence-based practices study that examines the effects of various factors on the implementation and use of evidence-based treatments and approaches in system of care communities; (2) A cultural and linguistic competence study that examines the extent to which the cultural and linguistic characteristics of communities influence program implementation and provider adaptation of evidence-based treatments, and provider service delivery decisions based on provider culture and language; and (3) an evaluation of the communities' use of reports produced by the national evaluation for continuous quality improvement. The national evaluation measures address the national outcome measures for mental health programs as currently established by SAMHSA.

Table 1 summarizes which national evaluation components are unchanged from the original 2006 submission and which are new or changed.

Table 1—Study Component and Instrument Revisions for Phase V Re-submission
| New or changed for 2009 resubmission | No change | Nature of change
System of Care Assessment
Site Visit Tables |  | X |
Interview Protocols |  | X |
Inter-Agency Collaboration Scale (IACS) |  | X |
Longitudinal Child and Family Outcome Study
Caregiver Information Questionnaire (CIQ-I) | X |  | Question 39a skip pattern revised. Question 39d list of medications updated.
Caregiver Information Questionnaire (CIQ-F) | X |  | Question 39a skip pattern revised. Question 39d list of medications updated.
Caregiver Strain Questionnaire (CGSQ) |  | X |
Child Behavior Checklist (CBCL)/Child Behavior Checklist 1½-5 (CBCL 1½-5) |  | X |
Education Questionnaire—Revised (EQ-R) | X |  | Slight wording change to interviewer note and the term “day care” changed to “childcare.”
Living Situations Questionnaire (LSQ) |  | X |
Family Life Questionnaire (FLQ) |  | X |
Behavioral and Emotional Rating Scale—Second Edition—Parent Rating Scale (BERS-2C) |  | X |
Columbia Impairment Scale (CIS) |  | X |
Vineland Screener (VS) |  | X |
Delinquency Survey—Revised (DS-R) |  | X |
Behavioral and Emotional Rating Scale—Second Edition, Youth Rating Scale (BERS-2Y) |  | X |
GAIN-Quick Substance Related Issues (GAIN Quick-R) |  | X |
Substance Use Survey—Revised (SUS-R) |  | X |
Revised Children's Manifest Anxiety Scales (RCMAS) |  | X |
Reynolds Adolescent Depression Scale—Second Edition (RADS-2) |  | X |
Youth Information Questionnaire (YIQ-I) |  | X |
Youth Information Questionnaire (YIQ-F) |  | X |
Service Experience Study
Multi-Sector Service Contacts Questionnaire—Revised (MSSC-R) | X |  | Slight modification to Card 4, and Cards 6 and 7 are new.
Evidence-Based Practices Experience Measure (EBPEM) |  | X |
Cultural Competence and Service Provision Questionnaire (CCSP) |  | X |
Youth Services Survey for Families (YSS-F) |  | X |
Youth Services Survey (YSS) |  | X |
Services and Costs Study
Flex Funds Data Dictionary | X |  | New.
Services and Costs Data Dictionary | X |  | New.
Sustainability Study
Sustainability Survey |  | X |
Continuous Quality Improvement (CQI) Initiative Evaluation
CQI Initiative Survey | X |  | New.
CQI Initiative Interview Guide | X |  | New.
Evidence-Based Practices Study
System-level Implementation Factors Discussion Guide | X |  | New.
Service-level Implementation Factors Discussion Guide | X |  | New.
Consumer-level Implementation Factors Discussion Guide | X |  | New.
Cultural and Linguistic Competence Study
CCIOSAS—Beneficiaries of Self-Assessment Findings Focus Group Guide—Staff and Partners | X |  | New.
CCIOSAS—Beneficiaries of Self-Assessment Findings Focus Group Guide—Caregivers | X |  | New.
CCIOSAS—Beneficiaries of Self-Assessment Findings Focus Group Guide—Youth | X |  | New.
CCIOSAS—Participants in Self-Assessments Focus Group Guide—Staff and Partners | X |  | New.
CCIOSAS—Participants in Self-Assessments Focus Group Guide—Caregivers | X |  | New.
CCIOSAS—Participants in Self-Assessments Focus Group Guide—Youth | X |  | New.
CCIOSAS—Users of Self-Assessment Findings Focus Group Guide—Staff and Partners | X |  | New.
CCIOSAS—Users of Self-Assessment Findings Focus Group Guide—Caregivers | X |  | New.
CCIOSAS—Users of Self-Assessment Findings Focus Group Guide—Youth | X |  | New.
CCIOSAS—Telephone Interview—Staff and Partners | X |  | New.
CCEBPS—Managers of EBP Process Focus Group Guide | X |  | New.
CCEBPS—Providers of EBP Focus Group Guide | X |  | New.
CCEBPS—Family Focus Group Guide | X |  | New.
CCEBPS—Youth Focus Group Guide | X |  | New.
CCEBPS—Telephone Interview | X |  | New.

Internet-based technology will be used for data entry and management, and for collecting data using Web-based surveys. The average annual respondent burden, with detail provided about burden contributed by specific measures, is estimated below. The estimate reflects the average number of respondents in each respondent category, the average number of responses per respondent per year, the average length of time it will take for each response, and the total average annual burden for each category of respondent and for all categories of respondents combined.

Table 2—Detailed Estimate of Respondent Burden
[Note: Total burden is annualized over a 3-year period.]
Instrument | Respondent | Number of respondents | Total average number of responses per respondent | Hours per response | Total burden hours | 3-year average annual burden hours
System of Care Assessment
Interview Guides and Data Collection Forms | Key site informants | ¹ 630 | 1 | 1.00 | 630 | 210
Interagency Collaboration Scale (IACS) | Key site informants | 630 | 1 | 0.13 | 82 | 27
Longitudinal Child and Family Outcome Study
Caregiver Information Questionnaire (CIQ-IC) | Caregiver | ² 8,810 | 1 | 0.283 | 2,493 | 831
Caregiver Information Questionnaire Followup (CIQ-FC) | Caregiver | 8,810 | ³ 2 | 0.200 | 3,524 | 1,175
Caregiver Strain Questionnaire (CGSQ) | Caregiver | 8,810 | 3 | 0.167 | 4,414 | 1,471
Child Behavior Checklist (CBCL)/Child Behavior Checklist 1½-5 (CBCL 1½-5) | Caregiver | 8,810 | 3 | 0.333 | 8,801 | 2,934
Education Questionnaire—Revised (EQ-R) | Caregiver | 8,810 | 3 | 0.333 | 8,801 | 2,934
Living Situations Questionnaire (LSQ) | Caregiver | 8,810 | 3 | 0.083 | 2,194 | 731
The Family Life Questionnaire (FLQ) | Caregiver | 8,810 | 3 | 0.050 | 1,322 | 441
Behavioral and Emotional Rating Scale—Second Edition, Parent Rating Scale (BERS-2C) | Caregiver | ⁴ 7,488 | 3 | 0.167 | 4,193 | 1,398
Columbia Impairment Scale (CIS) | Caregiver | ⁵ 8,369 | 3 | 0.083 | 2,084 | 695
The Vineland Screener (VS) | Caregiver | ⁶ 1,321 | 3 | 0.250 | 330 | 110
Delinquency Survey—Revised (DS-R) | Youth | ⁷ 5,286 | 3 | 0.167 | 2,648 | 883
Behavioral and Emotional Rating Scale—Second Edition, Youth Rating Scale (BERS-2Y) | Youth | 5,286 | 3 | 0.167 | 2,648 | 883
Gain-Quick Substance Related Issues (Gain Quick-R) | Youth | 5,286 | 3 | 0.083 | 1,316 | 439
Substance Use Survey—Revised (SUS-R) | Youth | 5,286 | 3 | 0.100 | 1,586 | 529
Revised Children's Manifest Anxiety Scales (RCMAS) | Youth | 5,286 | 3 | 0.050 | 793 | 264
Reynolds Adolescent Depression Scale—Second Edition (RADS-2) | Youth | 5,286 | 3 | 0.050 | 793 | 264
Youth information Questionnaire—Baseline (YIQ-I) | Youth | 5,286 | 1 | 0.167 | 883 | 294
Youth information Questionnaire—Follow-up (YIQ-F) | Youth | 5,286 | 2 | 0.167 | 1,766 | 589
Service Experience Study
Multi-Sector Service Contacts—Revised (MSSC-R) | Caregiver | 8,810 | ⁸ 2 | 0.250 | 4,405 | 1,468
Evidence-Based Practice Measure (EBPEM) | Caregiver | 8,810 | 2 | 0.167 | 2,943 | 981
Cultural Competence and Service Provision Questionnaire (CCSP) | Caregiver | 8,810 | 2 | 0.167 | 2,943 | 981
Youth Services Survey—Family (YSS-F) | Caregiver | 8,810 | 2 | 0.117 | 2,062 | 687
Youth Services Survey (YSS) | Youth | 5,286 | 2 | 0.083 | 877 | 292
Services and Costs Study
Flex Funds Data Dictionary | Local staff compiling/entering data | ⁹ 2,670 | ¹⁰ 3 | 0.033 | 218 | 73
Services and Costs Data Dictionary | Local staff compiling/entering data | ¹¹ 10,680 | ¹² 100 | 0.033 | 29,073 | 9,691
Sustainability Study
Sustainability Survey—Caregiver | ¹³ Caregiver | 52 | 2 | 0.75 | 78 | 26
Sustainability Survey—Provider | ¹³ Provider/Administrator | 156 | 2 | 0.75 | 234 | 78
CQI Benchmarking Initiative Evaluation
CQI Initiative Survey | Key community staff | 150 | 1 | 0.5 | 75 | 25
CQI Initiative Interview Guide | Key community staff | 50 | 1 | 1.0 | 50 | 17
Evidence-Based Practices Study
The Implementation Factors Discussion Guide | SOC leadership team member | 90 | 1 | 0.75 | 68 | 23
The Implementation Factors Discussion Guide | Provider | 60 | 1 | 0.75 | 45 | 15
The Implementation Factors Discussion Guide | Caregivers | 30 | 1 | 0.5 | 15 | 5
Cultural and Linguistic Competence Study
CCIOSAS—Beneficiaries of Self-Assessment Findings | Provider | 40 | 1 | 1.0 | 40 | 13
CCIOSAS—Beneficiaries of Self-Assessment Findings | Administrators/Managers | 20 | 1 | 1.5 | 30 | 10
CCIOSAS—Beneficiaries of Self-Assessment Findings | Caregivers | 40 | 1 | 0.75 | 30 | 10
CCIOSAS—Beneficiaries of Self-Assessment Findings | Youth | 40 | 1 | 0.75 | 30 | 10
CCIOSAS—Participants in Self-Assessments | Provider | 40 | 1 | 1.0 | 40 | 13
CCIOSAS—Participants in Self-Assessments | Administrators/Managers | 20 | 1 | 1.5 | 30 | 10
CCIOSAS—Participants in Self-Assessments | Caregivers | 16 | 1 | 0.75 | 12 | 4
CCIOSAS—Participants in Self-Assessments | Youth | 16 | 1 | 0.75 | 12 | 4
CCIOSAS—Users of Self-Assessment Findings | Provider | 40 | 1 | 1.0 | 40 | 13
CCIOSAS—Users of Self-Assessment Findings | Administrators/Managers | 20 | 1 | 1.5 | 30 | 10
CCIOSAS—Users of Self-Assessment Findings | Caregivers | 16 | 1 | 0.75 | 12 | 4
CCIOSAS—Users of Self-Assessment Findings | Youth | 16 | 1 | 0.75 | 12 | 4
CCIOSAS—Telephone Interview | Providers | 2 | 1 | 1.0 | 2 | 0.67
CCIOSAS—Telephone Interview | Administrators/Managers | 3 | 1 | 1.0 | 3 | 1
CCEBPS—Managers of EBP Process | Providers | 16 | 1 | 1.0 | 16 | 5
CCEBPS—Managers of EBP Process | Administrators/Managers | 20 | 1 | 1.5 | 30 | 10
CCEBPS—Providers of EBP | Providers | 40 | 1 | 1.0 | 40 | 13
CCEBPS—Families and Youth | Caregivers | 40 | 1 | 0.75 | 30 | 10
CCEBPS—Families and Youth | Youth | 40 | 1 | 0.75 | 30 | 10
CCEBPS—Telephone Interview | Providers | 2 | 1 | 1.0 | 2 | 0.67
CCEBPS—Telephone Interview | Administrators/Managers | 3 | 1 | 1.0 | 3 | 1

Table 2—Estimate of Respondent Burden (Continued)
| Number of distinct respondents | Number of responses per year per respondent | Average annual burden per response (hours) | Total annual burden (hours)
Summary of Annualized Burden Estimates for 3 Years
Caregivers | 8,810 | 2.46 | 2.36 | 51,147
Youth | 5,286 | 2.56 | 0.99 | 13,397
Community staff | 870 | 72.22 | 0.86 | 54,035
Total Summary | 14,996 | 6.54 |  | 118,579
Total Annual Average Summary | 4,989 | 2.18 |  | 39,526
¹ An average of 21 constituents in up to 30 grant communities will complete the System of Care Assessment interview. These constituents will include site administrative staff, providers, agency representatives, family representatives, and youth.
² Number of respondents across 30 grantees. Average based on a 5 percent attrition rate at each data collection point.
³ Average number of responses per respondent is a weighted average of the possible numbers of responses per respondent for communities beginning data collection in FY2007 and FY2008. The maximum numbers of responses per respondent are for 24 communities beginning data collection in FY2007, 1 follow-up data collection point remaining for children/youth recruited in year 2 (of grant community funding), 3 for children/youth recruited in year 3, 4 for children/youth recruited in year 4, and 4 for children/youth recruited in year 5. The maximum numbers of responses per respondent are, for 6 communities beginning data collection in FY2008, 3 follow-up data collection points remaining for children/youth recruited in year 2 (of grant community funding), 5 for children/youth recruited in year 3, 6 for children/youth recruited in year 4, and 4 for children/youth recruited in year 5.
⁴ Approximate number of caregivers with children over age 5, based on Phase V data submitted as of 12/08.
⁵ Approximate number of caregivers with children 3 and older, based on Phase V data submitted as of 12/08.
⁶ Approximate number of caregivers with children 5 or under, based on Phase V data submitted as of 12/08.
⁷ Based on Phase III and IV finding that approximately 60 percent of the children/youth in the evaluation were 11 years old or older.
⁸ Respondents only complete Service Experience Study measures at follow-up points. See Footnote #3 for the explanation about the average number of responses per respondent.
⁹ Staff will enter data on flexible funds expenditures into a Web-based application or will recode existing data on flexible funds expenditures to match the Flex Funds Data Dictionary format. Each community will use flexible funds expenditures on average for approximately one-quarter of the estimated 356 children/youth enrolled, suggesting a total of 89 children/youth will receive services from flexible funds per community. Thus, there will be data entered for 89 × 30 = 2,670 children/youth using the Flex Funds Data Dictionary.
¹⁰ Assumes that three expenditures, on average, will be spent on each child/youth receiving flexible fund benefits.
¹¹ Staff will collect paper-based forms from agencies and enter them into a Web-based application or will extract data from agencies' existing data systems. Staff will recode data to match the Services and Costs Data Dictionary format. Service and costs records will be compiled for all 356 × 30 = 10,680 children/youth enrolled.
¹² Assumes that each child/youth will have 100 service episodes, on average, during his/her time in a system of care.
¹³ This survey will be administered in 5 communities funded in 2006, 25 communities funded in 2005, 2 communities funded in 2000, and 20 communities funded in 1999. For each community, one respondent will be a caregiver and three respondents will be administrators/providers.

Written comments and recommendations concerning the proposed information collection should be sent by August 31, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 27, 2009.
Elaine Parry,
Director, Office of Program Services.

[FR Doc. E9-18315 Filed 7-30-09; 8:45 am]

BILLING CODE 4162-20-P